DEPARTMENT OF COMMERCE

National Oceanic and Atmospheric Administration

50 CFR Part 622

[Docket No. 130606533-4646-02]

RIN 0648-BD36

Fisheries of the Caribbean, Gulf of Mexico, and South Atlantic; Reef Fish Fishery of the Gulf of Mexico; Amendment 26 and Amendment 29 Supplement

AGENCY: National Marine Fisheries Service (NMFS), National Oceanic and Atmospheric Administration (NOAA), Commerce.

ACTION: Final rule.

SUMMARY: NMFS issues this final rule to supplement the regulations implementing Amendments 26 and 29 to the Fishery Management Plan for Reef Fish Resources of the Gulf of Mexico (FMP), as prepared and submitted by the Gulf of Mexico Fishery Management Council (Council). Amendment 26 established an individual fishing quota (IFQ) program for the red snapper commercial sector of the reef fish fishery in the Gulf of Mexico (Gulf) exclusive economic zone (EEZ). Amendment 29 established a multi-species IFQ program for the grouper and tilefish component of the commercial sector of the reef fish fishery in the Gulf EEZ. This final rule specifies procedures for closing an IFQ account and modifies requirements for IFQ landing transactions, landing notifications, and offloading. The purpose of this final rule is to enhance the monitoring, enforcement, and review of the IFQ programs as specified in Amendments 26 and 29 to the FMP.

DATES: This rule is effective October 27, 2014.

ADDRESSES: Electronic copies of Amendments 26 and 29, which each include a final environmental impact statement (FEIS), a regulatory impact review (RIR), and a regulatory flexibility act analysis may be obtained from the Council's Web site at http://www.gulfcouncil.org/fishery_management_plans/reef_fish_management_archives.php.

Comments regarding the burden-hour estimates or other aspects of the collection-of-information requirements contained in this final rule may be submitted in writing to Anik Clemens, Southeast Regional Office, NMFS, 263 13th Avenue South, St. Petersburg, FL 33701; and the Office of Management and Budget (OMB), by email at OIRA Submission@omb.eop.gov, or by fax to 202-395-7285.

FOR FURTHER INFORMATION CONTACT: Catherine Hayslip, telephone 727-824-5305, email Catherine.Hayslip@noaa.gov.

SUPPLEMENTARY INFORMATION: The reef fish fishery of the Gulf of Mexico is managed under the FMP. The FMP was prepared by the Council and is implemented through regulations at 50 CFR part 622 under the authority of the Magnuson-Stevens Act.

On March 19, 2014, NMFS published a proposed rule for these actions and requested public comment (79 FR 15287). The proposed rule outlined the rationale for the actions contained in this final rule and are not repeated here. This final rule specifies procedures for closing an IFQ account and modifies requirements for IFQ landing transactions, landing notifications, and offloading. The purpose of this rule is to enhance the monitoring, enforcement, and review of the IFQ programs as specified in Amendments 26 and 29 to the Reef Fish FMP.

Comments and Responses

NMFS received comments from 20 individuals or groups during the comment period. Several comments were outside the scope of the current rulemaking, including a request for a standard set of guidelines for all IFQ users, a dedicated after-hours support phone line, and the addition of a “use it or lose it” provision, i.e., if shares or allocations are not being used, they will be redistributed to the remaining shareholders. The Council is considering possible long-term changes to the programs in future amendments, which may include these provisions. Comments related to the actions contained in the proposed rule as well as NMFS' responses are summarized below.

Landing Notifications

Comment 1: Several commenters supported allowing IFQ allocation to be held in either the vessel account or the linked shareholder account at the time of the landing notification.

Response: Requiring allocation to be held in either a shareholder or vessel account at the time of the landing notification will provide increased flexibility to fishers. Currently, sufficient allocation must be in the vessel account at the time of the landing notification. This modification would allow allocation to also be in the shareholder account in the event that sufficient allocation has not been transferred to the vessel account at the time of landing notification. This change will provide greater flexibility to program participants and result in less landing notifications having insufficient allocation without impacting enforceability. Before completing a landing transaction sufficient allocation would need to be transferred to the vessel account to allow the dealer to complete the landing transaction.

Comment 2: Several commenters supported the provision to extend the landing notification reporting window from 12 to 24 hours.

Response: The provision to extend the reporting window for landing notifications from 12 to 24 hours will provide vessel owners and operators greater flexibility, while providing sufficient notice to law enforcement. Fishers, especially those making day-trips, will have a greater window of time to provide landing notifications, increasing their flexibility under the program.

Comment 3: In general, commenters opposed a 30-minute landing window in favor of a greater window of time after the landing time specified in the notification. Commenters indicated that 30 minutes would not be sufficient time to allow for changes in weather, vessel speed, tides, and mechanical issues. Though several commenters indicated greater than 1 hour would be preferable for the landing window, the majority of commenters indicated that a 1-hour landing window would be sufficient.

Response: NMFS asked for comments on whether 30 minutes would be a sufficient amount of time for landing and, if not, whether an hour would be preferable. NMFS agrees with the majority of commenters that 1 hour is the preferable landing window, allowing for changes in arrival time while still aiding law enforcement by limiting the time an officer needs to wait at the dock. Therefore, NMFS has modified the final rule to allow a 1-hour landing window. NMFS understands that there may be circumstances that delay a vessel more than 1 hour after the arrival time indicated on the notification; however, NMFS has determined that a longer window would unreasonably interfere with enforcement activities because it could result in law enforcement officers waiting at the landing location for extended periods of time. If a vessel cannot land within 1 hour after the time reported on the landing notification, this rule requires that the vessel submit a new notification, but would allow the vessel to land without having to wait an additional three hours except under the limited circumstances specified in § 622.21(b)(5)(i)(C) and 622.22(b)(5)(i)(C) (the change is to landing location, the time of landing is earlier than previously specified, or more than one superseding notification is submitted on a trip).

Comment 4: Several commenters favored the proposed procedures for making changes to landing notifications, but did not support the requirement that vessels wait an additional 3 hours before landing if more than one “amended” notification is submitted. These commenters stated that this extra delay would be onerous. Two commenters suggested that if too many amendments were being reported, the requirement should be reconsidered in future rulemaking.

Response: NMFS disagrees that vessels should be allowed to make more than one change to a landing notification without having to wait an additional 3 hours to land. The final rule clarifies that a vessel that has submitted a landing notification to NMFS may make changes to the notification by submitting a superseding notification. When submitting an initial superseding notification, a vessel is not required to wait an additional 3 hours to land if the change is to the dealer or the amount of pounds onboard, or the landing time is changed to be later than previously specified. However, a vessel is required to wait a minimum of 3 hours to land if the initial superseding notification changes the intended landing location or the time of landing is earlier than originally specified. Additionally, if a vessel makes more than one superseding notification, that vessel must wait a minimum of 3 hours to land regardless of the change. Allowing vessels to make multiple superseding notifications without requiring that they wait an additional 3 hours to land could complicate law enforcement. If vessels continually change the information submitted in the landing notification, law enforcement may not have sufficient time to react to the changes. Thus, this rule provides greater flexibility than previously existed but balances that flexibility with the need to ensure effective law enforcement.

Comment 5: One commenter suggested that if a vessel is making a change to a landing notification, the new landing notification must be made within 2 hours of the first notification.

Response: NMFS disagrees. Requiring that a change to a landing notification be made within the 2 hours of the first notification is overly restrictive and could be a burden to fishers, especially those who submit a landing notification well in advance of the time of landing.

Comment 6: One commenter stated that the landing notification should be on an electronically-editable form so changes can be submitted without submitting a new notification.

Response: NMFS understands that it would be more efficient to have an editable form that could be updated. However, the IFQ database and VMS forms do not provide a mechanism for allowing changes directly to a notification that was already submitted. Thus, NMFS determined that a new notification must be submitted.

Comment 7: Commenters were in favor of allowing vessels to land prior to the time indicated in a landing notification if an authorized law enforcement officer is present at the landing site and authorizes the owner or operator of the vessel to land early. However, some commenters requested the ability to land prior to the time on the notice if an officer has authorized the landing (by giving an authorization code, for example), but is not present. One commenter questioned which law enforcement officers would be authorized to allow a vessel to land early.

Response: Currently, the owner or operator of a vessel landing IFQ species is responsible for ensuring that NMFS is contacted at least 3 hours prior to landing. To provide vessel owners and operators additional flexibility, NMFS proposed adding language to the regulations stating that a law enforcement officer who is present at the landing site may authorize a vessel to land prior to the time specified on the landing notification. In this final rule, NMFS is adding language to the codified text that specifies that the officer must also be available to meet the vessel. This is intended to clarify that although an officer may be at the landing site, that officer will not necessarily be able to grant a request to land early. NMFS is not changing the codified text to allow a vessel to land early if authorized by a law enforcement officer who is not at the landing site. Doing so would not serve the purpose of the regulation, which is to enhance enforcement. In response to the comment asking for clarification about which law enforcement officers would be authorized to allow a vessel to land early, NMFS is changing the codified text to refer to an “authorized officer” instead of a “state or Federal law enforcement officer.” “Authorized officer” is defined in 50 CFR 600.10 as “(1) Any commissioned, warrant, or petty officer of the USCG; (2) Any special agent or fishery enforcement officer of NMFS; (3) Any officer designated by the head of any Federal or state agency that has entered into an agreement with the Secretary and the Commandant of the USCG to enforce the provisions of the Magnuson-Stevens Act or any other statute administered by NOAA; or (4) Any USCG personnel accompanying and acting under the direction of any person described in paragraph (1) of this definition.”

Offloading

Comment 8: Several commenters supported extending the offloading window after 6 p.m. if a law enforcement officer is present and authorizes the offload to continue. Additionally, several commenters supported extending the offloading window until 8 p.m., regardless of whether law enforcement is present.

Response: NMFS proposed language that would allow a law enforcement officer to extend the offloading window to provide dealers and vessel owners/operators additional flexibility when offloading fish. As with the provision allowing a vessel to land early if authorized, NMFS is adding language to the codified text in this final rule that specifies that an “authorized officer” must be available to remain at the offloading site if a vessel owner/operator would like to continue offloading after 6 p.m. This is intended to clarify that although an officer may be at the offload site, that officer will not necessarily be able to grant a request to extend the offloading window. NMFS considered extending the offloading window until 8 p.m., but decided that the window should remain from 6 a.m. until 6 p.m., because most dealers in the IFQ program close by 6 p.m.

Comment 9: Comments were received supporting a 72-hour offloading timeframe, a 96-hour offloading timeframe, and requesting the removal of language that would require an offloading timeframe. Commenters in favor of a 72-hour offloading timeframe indicated that 72 hours would be a sufficient amount of time to complete offloading a vessel. Commenters in favor of a 96-hour timeframe for completing an offload indicated this would provide some flexibility during holiday weekends, market gluts, emergencies, and ice machine or cooler issues. For the same reasons, some commenters opposed an offloading window all together. Additionally, one commenter suggested that the offloading timeframe should be from the arrival time indicated on the most recent landing notification, as there is no offloading notification.

Response: After further consideration NMFS has determined that it is not necessary to expressly require a timeframe for completing offload. NMFS proposed the offloading timeframe because NMFS is concerned that landing transactions are not being completed in a timely manner after a fishing trip ends, and that delay could impact the ability to track landings of IFQ species. NMFS has determined that the more direct way to address this issue is to specify a timeframe for completing the landing transaction. And because there is no offloading notification, NMFS agrees with the commenter that the timeframe should begin from the landing time indicated on the recent landing notification. Thus, this rule will require that the landing transaction be completed on the day of offload (unless the fish are being trailered for transport to a dealer, in which case the landing transaction report may be completed prior to the day of offload) and within 96 hours of the time indicated on the most recent landings notification. NMFS determined that allowing 96 hours to complete the landing transaction will give fishermen increased flexibility on when to offload, but will also ensure that landing transactions are completed in a timely manner after a fishing trip ends, which will help NMFS more accurately track landings of IFQ species.

Landing Transactions

Comment 10: Comments were received both in favor of and against prohibiting deduction of ice and water weight when a landing transaction is reported. Commenters in favor of prohibiting deduction of ice and water weight stated that doing so would standardize how landing transactions are processed for all fishers and dealers. Some commenters who opposed prohibiting the deduction of ice and water weight stated this prohibition would affect the initial share calculation, which determined how shares were distributed to shareholders. Many commenters who opposed prohibiting the deduction of ice and water weight suggested that a standard percentage for an ice and water weight deduction be applied Gulf-wide. One commenter felt ice and water weight should be allowed to be deducted from the recorded weight, if accurately measured using a scale.

Response: NMFS agrees that how weights are recorded in the IFQ online system should be standardized across dealers in the Gulf. However, NMFS disagrees that this can be accomplished by developing a standard deduction for ice and water weight that can be applied Gulf-wide. As explained in the proposed rule, NMFS considered specifying a standardized deduction percentage for ice and water weight. However, NMFS determined that this would be impracticable to estimate, and would need to be species specific due to varying industry practices for icing fish, differences in trip durations that may affect how much water and ice retention occurs, varying dealer practices for removing ice from fish prior to weighing, and varying fish sizes and body shapes. Thus, in order to standardize the method for reporting weights, NMFS proposed prohibiting the deduction of ice and water weight when reporting the weight of the fish. This proposal would not have changed the initial shares distributed to shareholders, because the initial allocation of shares was based on reported historical landings. However, as noted by one commenter, this general prohibition would not allow for the deduction of ice and water weight if that actual weight was determined using a scale. NMFS agrees that in those situations where the actual weight of the ice and water can be determined using a scale, that weight should not be included when reporting the weight of the fish. Therefore NMFS is modifying the language to prohibit the deduction of ice and water weight unless the actual weight of ice and water is determined using a scale. This change will address the problems associated with different dealers applying different arbitrary deductions for ice and water weight, but will still allow the deduction of the actual weight of ice and water when that weight can be determined.

Comment 11: Several commenters supported the proposed change to require a dealer to complete a landing transaction for IFQ species on the day of offload. Two commenters indicated that they preferred 24 hours to enter the landing transaction after the offload. One commenter did not provide a timeframe, but indicated that they typically do not enter landing transactions for up to a week after fish have already been sold in order to accurately report ex-vessel prices. One commenter also mentioned that landing transactions are often entered the day before offloading, as they receive a confirmation number and have to transport the fish to be offloaded at a different site on a later date.

Response: NMFS understands that there are circumstances when a landing transaction may not occur on the same day as the vessel landing; however, NMFS agrees with the commenters that support the requirement to enter the landing transaction on the same day as the offload. NMFS is not increasing the time to complete a landing transaction to 24 hours after the offloading, because this could allow fish to be transported or sold before they are recorded in the system, which would result in less accurate tracking of landings. As explained in the response to Comment 9, this rule will require the dealer to complete the landing transaction on the day of offload (with one exception noted below) and within 96 hours of the landing time indicated on the most recent landing notification. As one commenter noted, there are times when the landing transaction is completed at the landing location, and fish remain on a vessel that is trailered for transport to a dealer. In this instance, the offloading occurs after the day of the landing transaction because the transaction and an approval code are required before the fish can be transported. Thus, this rule will allow dealers to enter the landing transaction prior to the day of offload if fish are being trailered for transport as specified in § 622.21(b)(5)(iv) or 622.22(b)(5)(iv).

Comment 12: Several commenters supported removing the language that a landing transaction cannot be completed without a pre-landing notification, as it would provide flexibility for fishers in the event VMS notifications were not received.

Response: NMFS agrees that this language should be removed to provide flexibility during the occasions when system outages occur. Occasionally, system outages cause delayed submission of landing notifications, by no fault of the fisher submitting the notification. Removing this language will allow fishers the ability to complete the landing transaction, despite not having a confirmation number for a pre-landing notification.

Close an IFQ Account

Comment 13: Commenters were generally in favor of allowing NMFS IFQ Customer Service staff to close an IFQ account if no landing transactions or IFQ transfers have been completed by the IFQ account holder in at least 1 year, and the account holds no shares or allocation, and for dealer accounts without unpaid cost recovery fees. However, one commenter stated that an account should not be closed unless there has been no activity for at least 2 years, to account for illness or vessel failure.

Response: NMFS disagrees that there should be a minimum of 2 years of inactivity before IFQ Customer Service Staff could close an IFQ account. Closing accounts will reduce the number of records NMFS needs to maintain, and an account could be reopened at the request of the IFQ account holder at any time. Thus, there is no need to keep accounts open for 2 years to address prolonged illnesses or vessel failures.

Changes From the Proposed Rule

NMFS is revising several of the provisions from the proposed rule in this final rule based on public comment received during the proposed rule comment period and public input received during the April 2014 Council meeting. These revisions are explained below.

Landing Notifications

In the proposed rule, NMFS specifically requested public comment on the proposal to land within 30 minutes after the time given in the landing notification, or whether 1 hour would be preferable. During its August 2013 meeting, the Council discussed extending the landing window from 30 minutes to 1 hour based on public comments received. During the November 2013 Red Snapper IFQ ad hoc Advisory Panel meeting, the Advisory Panel discussed and recommended that the landing window be extended from 30 minutes to 1 hour. Based on this feedback, as well as on public comment received on the proposed rule and public input received at the April 2014 Council meeting, NMFS has determined that it is preferable to require vessels to land within 1 hour after the time given in the landing notification. This will give IFQ vessels additional flexibility to account for weather, vessel speeds, tides, and mechanical issues but still ensure law enforcement that vessels will land within a reasonable window of time. Therefore, this final rule implements the requirement to land within 1 hour from the time given on the landing notification.

The proposed rule included codified text that would allow a vessel to land prior to the time indicated on its landing notification if a state or Federal law enforcement officer is present at the landing site and authorizes the owner or operator of the vessel to land early. In this final rule, NMFS is adding language to the codified text that specifies that the officer must also be available to meet the vessel. This is intended to clarify that although an officer may be at the landing site, that officer will not necessarily be able to grant a request to land early. In addition, NMFS is changing the codified text to refer to an “authorized officer” instead of a “state or Federal law enforcement officer.” Because “authorized officer” is defined 50 CFR 600.10 this change will clarify which officers may grant a request to land early.

Offloading

The proposed rule included codified text that would authorize offloads beginning before 6 p.m. to continue after 6 p.m. if a state or Federal law enforcement officer is present and authorizes the offload to continue. In this final rule, NMFS is adding language to the codified text that specifies that the officer must also be available to remain at the offloading site while offloading continues. This is intended to clarify that although an authorize officer may be at the offloading site, that officer may not necessarily grant a request to extend the offloading window. As noted above, NMFS is also changing the codified text to refer to an “authorized officer” instead of a “state or Federal law enforcement officer.”

Landing Transactions

This rule would prohibit the arbitrary deduction of ice and water weight from the weight of the fish when reporting an IFQ landing transaction. The proposed rule included a provision to “include ice and water weight” when calculating the weight of IFQ species during a landing transaction. However, in response to comments, this final rule slightly revises the language from the proposed regulations to address circumstances when the actual weight of ice and water can be determined. The new language provides that “when calculating the weight of IFQ species during a landing transaction, ice and water weight may not be deducted from the weight of the fish unless the actual weight of the ice and water are determined with a scale.” This will address the problems associated with different dealers applying different arbitrary deductions for ice and water weight, but still allow the deduction of the actual weight of ice and water when that weight can be determined.

The proposed rule included the requirement for a dealer to complete a landing transaction for IFQ species on the day of offload. This was proposed to improve the timeliness and accuracy of landing transactions. The proposed rule also included a 72-hour timeframe for offloading IFQ species after landing. However, as explained in the response to Comment 9, NMFS has determined that to address the timeliness and accuracy of landing transactions it is more appropriate to require a timeframe for completing the landing transaction, as opposed to a timeframe for completing an offload. NMFS also determined, based on public comment, that this timeframe should be 96 hours. Thus, this final rule requires completion of a landing transaction within 96 hours after landing and on the same day as the offload, except if the fish are being trailered for transport to a dealer as specified in § 622.21(b)(5)(iv) and § 622.22(b)(5)(iv) (in which case the landing transaction report may be completed prior to the day of offload).

Classification

The Regional Administrator, Southeast Region, NMFS, has determined that this final rule is consistent with Amendments 26 and 29, the FMP, the Magnuson-Stevens Act, and other applicable law.

This final rule has been determined to be not significant for purposes of Executive Order 12866.

The Chief Counsel for Regulation of the Department of Commerce certified to the Chief Counsel for Advocacy of the Small Business Administration during the proposed rule stage that this rule would not have a significant economic impact on a substantial number of small entities. The factual basis for this determination was published in the proposed rule and is not repeated here. Comments on the proposed rule are addressed in the comments and responses section of this final rule, and the changes to the final rule are discussed in the changes from the proposed rule section of this final rule. The changes are expected to increase the operational flexibility of the Gulf IFQ program participants and improve the monitoring and administration of the programs compared to the actions in the proposed rule. These changes, therefore, support a determination that this rule will not have a significant economic impact on a substantial number of small entities. As a result, a final regulatory flexibility analysis was not required and none was prepared.

The Small Business Administration (SBA) revised its small business standards for several industries in a final rule effective July 14, 2014 (79 FR 33647, June 12, 2014). The rule increased the size standard for Finfish Fishing from $19.0 million to $20.5 million, Shellfish Fishing from $5.0 million to $5.5 million, and Other Marine Fishing from $7.0 million to $7.5 million. Because NMFS has determined that all entities directly affected by this action are small entities, the new SBA standards would not change the number of directly affected small entities. Therefore, NMFS has determined that the new size standards do not affect its decision to certify this action.

This final rule contains a collection-of-information requirement subject to the Paperwork Reduction Action (PRA), which has been approved by OMB under control number 0648-0551. NMFS estimates the requirement for an IFQ shareholder or dealer to complete and submit a Close IFQ Account Request Form to close an IFQ account if the IFQ account holder no longer fishes commercially, no longer owns any IFQ shares or allocation, or no longer wishes to participate as a dealer is estimated to average 2 minutes per response. This estimate of the public reporting burden includes the time for reviewing instructions, gathering and maintaining the data needed, and completing and reviewing the collection-of-information.

Notwithstanding any other provision of law, no person is required to respond to, nor shall a person be subject to a penalty for failure to comply with, a collection-of-information subject to the requirements of the PRA, unless that collection-of-information displays a currently valid OMB control number.

List of Subjects in 50 CFR Part 622

Fisheries, Fishing, Enforcement, Grouper, Gulf, IFQ, Red Snapper, Tilefish.

Dated: September 22, 2014.
Samuel D. Rauch III,
Deputy Assistant Administrator for Regulatory Programs, National Marine Fisheries Service.

For the reasons set out in the preamble 50 CFR part 622 is amended as follows:

PART 622—FISHERIES OF THE CARIBBEAN, GULF OF MEXICO, AND SOUTH ATLANTIC

1. The authority citation for part 622 continues to read as follows:

Authority: 16 U.S.C. 1801 et seq.

2. In § 622.21:

a. Paragraph (a)(5) is revised;

b. Paragraph (a)(6) is removed;

c. The 9th sentence in paragraph (b)(1) is revised and a sentence is added between the 9th and 10th sentences in paragraph (b)(1);

d. Paragraph (b)(3)(i) is revised;

e. Paragraph (b)(3)(iii) is revised;

f. Paragraphs (b)(5)(i), (ii) and (iv) are revised;

g. The first sentence in paragraph (b)(5)(v) is revised and a sentence is added before the first sentence in paragraph (b)(5)(v).

The revisions and addition read as follows:

§ 622.21 Individual fishing quota (IFQ) program for Gulf red snapper.

(a) * * *

(5) Closing an IFQ account. IFQ account holders may close an IFQ account by completing and submitting a Close IFQ Account Request Form to NMFS. This form must be signed by an account holder named on the IFQ account. If the request to close an IFQ account is being made because the sole account holder is deceased, the person requesting the closure must sign the Close IFQ Account Request Form, indicating the relationship to the deceased, provide a death certificate, and provide any additional information NMFS determines is necessary to complete the request. IFQ shareholder accounts may not be closed until all shares and allocation have been transferred from the account to another IFQ account holder. Dealer accounts may not be closed until all cost recovery fees have been received by NMFS. NMFS' IFQ Customer Service staff may close an IFQ account if all shares and allocation have been transferred from the account, all cost recovery fees have been received by NMFS, and no landing transactions or IFQ transfers have been completed by the IFQ account holder in at least 1 year. If an account is closed by NMFS' IFQ Customer Service staff, it may be reopened at the request of the IFQ account holder by contacting IFQ Customer Service.

(b) * * *

(1) * * * A vessel account, or its linked IFQ shareholder account, must hold sufficient IFQ allocation, at least equal to the pounds in gutted weight of the red snapper on board at the time of advance notice of landing. Allocation must be transferred to the vessel account, so that the vessel account holds sufficient IFQ allocation at the time of the landing transaction (except for any overage allowed as specified in paragraph (b)(3)(ii) of this section). * * *

* * * * *

(3) * * *

(i) At the time of advance notice of landing, the IFQ vessel account, or its linked IFQ shareholder account, must contain allocation at least equal to the pounds in gutted weight of red snapper to be landed, except as provided in paragraph (b)(3)(ii) of this section. At the time of the landing transaction, the IFQ vessel account must contain allocation at least equal to the pounds in gutted weight of red snapper to be landed, except as provided in paragraph (b)(3)(ii) of this section. Such red snapper must be sold and can be received only by a dealer who has a valid Gulf IFQ dealer endorsement and an active IFQ dealer account (i.e., not in delinquent status). All IFQ landings and their actual ex-vessel prices must be reported via the IFQ Web site at ifq.sero.fisheries.noaa.gov.

* * * * *

(iii) The dealer must complete a landing transaction report for each landing of Gulf red snapper via the IFQ Web site at ifq.sero.fisheries.noaa.gov on the day of offload, except if the fish are being trailered for transport to a dealer as specified in paragraph (b)(5)(iv) of this section (in which case the landing transaction report may be completed prior to the day of offload), and within 96 hours from the time of landing reported on the most recent landing notification, in accordance with the reporting form(s) and instructions provided on the Web site. This report includes date, time, and location of transaction; weight and actual ex-vessel price of red snapper landed and sold (when calculating the weight of IFQ red snapper during a landing transaction, ice and water weight may not be deducted from the weight of the fish unless the actual weight of the ice and water can be determined); and information necessary to identify the fisherman, vessel, and dealer involved in the transaction. The fisherman must validate the dealer transaction report by entering his unique PIN when the transaction report is submitted. After the dealer submits the report and the information has been verified, the Web site will send a transaction approval code to the dealer and the allocation holder.

* * * * *

(5) * * *

(i) Advance notice of landing—(A) General requirement. For the purpose of this paragraph, landing means to arrive at a dock, berth, beach, seawall, or ramp. The owner or operator of a vessel landing IFQ red snapper is responsible for ensuring that NMFS is contacted at least 3 hours, but no more than 24 hours, in advance of landing to report the time and location of landing, estimated red snapper landings in pounds gutted weight, vessel identification number (Coast Guard registration number or state registration number), and the name and address of the IFQ dealer(s) where the red snapper are to be received. The vessel must land within 1 hour after the time given in the landing notification except as provided in paragraph (b)(5)(i)(C) of this section. The vessel landing red snapper must have sufficient IFQ allocation in the IFQ vessel account, or its linked IFQ shareholder account, at least equal to the pounds in gutted weight of all red snapper on board (except for any overage up to the 10 percent allowed on the last fishing trip) at the time of the advance notice of landing.

(B) Submitting an advanced landing notification. Authorized methods for contacting NMFS and submitting the report include calling IFQ Customer Service at 1-866-425-7627, completing and submitting to NMFS a landing notification provided through the VMS unit, or providing the required information to NMFS through the web-based form available on the IFQ Web site at ifq.sero.fisheries.noaa.gov.

(C) Landing prior to the notification time. The owner or operator of a vessel that has completed a landing notification and submitted it to NMFS may land prior to the notification time, only if an authorized officer is present at the landing site, is available to meet the vessel, and has authorized the owner or operator of the vessel to land early.

(D) Changes to a landing notification. The owner or operator of a vessel who has submitted a landing notification to NMFS may make changes to the notification by submitting a superseding notification. If the initial superseding notification makes changes to one or more of the following: the time of landing (if landing more than 1 hour after the time on the notification), the dealer(s), or the estimated weights of fish to be landed, the vessel does not need to wait an additional 3 hours to land. If the initial superseding notification makes changes to the landing location, the time of landing is earlier than previously specified, or more than one superseding notification is submitted on a trip, the vessel must wait an additional 3 hours to land, except as provided in paragraph (b)(5)(i)(C) of this section.

(ii) Time restriction on offloading. For the purpose of this paragraph, offloading means to remove IFQ red snapper from a vessel. IFQ red snapper may be offloaded only between 6 a.m. and 6 p.m., local time, unless an authorized officer is present at the offloading at 6 p.m., is available to remain at the site while offloading continues, and authorizes the owner or operator of the vessel to continue offloading after 6 p.m., local time.

* * * * *

(iv) Requirement for transaction approval code. If IFQ red snapper are offloaded to a vehicle for transport or are on a vessel that is trailered for transport, on-site capability to accurately weigh the fish and to connect electronically to the online IFQ system to complete the transaction and obtain the transaction approval code is required. After a landing transaction has been completed, a transaction approval code verifying a legal transaction of the amount of IFQ red snapper in possession and a copy of the dealer endorsement must accompany any IFQ red snapper from the landing location through possession by a dealer. This requirement also applies to IFQ red snapper possessed on a vessel that is trailered for transport. A dealer may only receive IFQ red snapper transported by a vehicle or a trailered vessel that has a corresponding transaction approval code.

(v) Approved landing locations. IFQ red snapper must be landed at an approved landing location. Landing locations must be approved by NMFS Office for Law Enforcement prior to a vessel landing IFQ red snapper at these sites. * * *

* * * * *

3. In § 622.22;

a. Paragraph (a)(8) is added;

b. The 9th sentence in paragraph (b)(1) is revised and a sentence is added between the 9th and 10th sentences in paragraph (b)(1);

c. Paragraph (b)(3)(i) is revised;

d. Paragraph (b)(3)(iii) is revised;

e. Paragraphs (b)(5)(i), (ii) and (iv) are revised; and

f. The first sentence in paragraph (b)(5)(v) is revised and a sentence is added before the first sentence in paragraph (b)(5)(v).

The additions and revisions read as follows:

§ 622.22 Individual fishing quota (IFQ) program for Gulf groupers and tilefishes.

(a) * * *

(8) Closing an IFQ account. IFQ account holders may close an IFQ account by completing and submitting a Close IFQ Account Request Form to NMFS. This form must be signed by an account holder named on the IFQ account. If the request to close an IFQ account is being made because the sole account holder is deceased, the person requesting the closure must sign the Close IFQ Account Request Form, indicating the relationship to the deceased, provide a death certificate, and provide any additional information NMFS determines is necessary to complete the request. IFQ shareholder accounts may not be closed until all shares and allocation have been transferred from the account to another IFQ account holder. Dealer accounts may not be closed until all cost recovery fees have been received by NMFS. NMFS' IFQ Customer Service staff may close an IFQ account if all shares and allocation have been transferred from the account, all cost recovery fees have been received by NMFS, and no landing transactions or IFQ transfers have been completed by the IFQ account holder in at least 1 year. If an account is closed by NMFS' IFQ Customer Service staff, it may be reopened at the request of the IFQ account holder by contacting IFQ Customer Service.

(b) * * *

(1) * * * A vessel account, or its linked IFQ shareholder account, must hold sufficient IFQ allocation in the appropriate share category, at least equal to the pounds in gutted weight of the groupers and tilefishes on board at the time of advance notice of landing. Allocation must be transferred to the vessel account, so that the vessel account holds sufficient IFQ allocation at the time of the landing transaction (except for any overage allowed as specified in paragraph (b)(3)(ii) for groupers and tilefishes). * * *

* * * * *

(3) * * *

(i) At the time of advance notice of landing, the IFQ vessel account, or its linked IFQ shareholder account, must contain allocation at least equal to the pounds in gutted weight of grouper or tilefish species to be landed, except as provided in paragraph (b)(3)(ii) of this section. At the time of the landing transaction, the IFQ vessel account must contain allocation at least equal to the pounds in gutted weight of grouper or tilefish species to be landed, except as provided in paragraph (b)(3)(ii) of this section. Such groupers and tilefishes must be sold and can be received only by a dealer who has a valid Gulf IFQ dealer endorsement and an active IFQ dealer account (i.e., not in delinquent status). All IFQ landings and their actual ex-vessel prices must be reported via the IFQ Web site at ifq.sero.fisheries.noaa.gov.

* * * * *

(iii) The dealer must complete a landing transaction report for each landing of Gulf groupers or tilefishes via the IFQ Web site at ifq.sero.fisheries.noaa.gov on the day of offload, except if the fish are being trailered for transport to a dealer as specified in paragraph (b)(5)(iv) of this section (in which case the landing transaction report may be completed prior to the day of offload), and within 96 hours from the time of landing reported on the most recent landing notification, in accordance with the reporting form(s) and instructions provided on the Web site. This report includes date, time, and location of transaction; weight and actual ex-vessel price of groupers and tilefishes landed and sold (when calculating the weight of IFQ groupers and tilefishes during a landing transaction, ice and water weight may not be deducted from the weight of the fish unless the actual weight of the ice and water can be determined); and information necessary to identify the fisherman, vessel, and dealer involved in the transaction. The fisherman must validate the dealer transaction report by entering the unique PIN for the vessel account when the transaction report is submitted. After the dealer submits the report and the information has been verified by NMFS, the online system will send a transaction approval code to the dealer and the allocation holder.

* * * * *

(5) * * *

(i) Advance notice of landing—(A) General requirement. For the purpose of this paragraph, landing means to arrive at a dock, berth, beach, seawall, or ramp. The owner or operator of a vessel landing IFQ groupers or tilefishes is responsible for ensuring that NMFS is contacted at least 3 hours, but no more than 24 hours, in advance of landing to report the time and location of landing, estimated grouper and tilefish landings in pounds gutted weight for each share category (gag, red grouper, DWG, Other SWG, tilefishes), vessel identification number (Coast Guard registration number or state registration number), and the name and address of the IFQ dealer(s) where the groupers or tilefishes are to be received. The vessel must land within 1 hour after the time given in the landing notification except as provided in paragraph (b)(5)(i)(C) of this section. The vessel landing groupers or tilefishes must have sufficient IFQ allocation in the IFQ vessel account, or its linked IFQ shareholder account, and in the appropriate share category or categories, at least equal to the pounds in gutted weight of all groupers and tilefishes on board (except for any overage up to the 10 percent allowed on the last fishing trip) at the time of the advance notice of landing.

(B) Submitting an advanced landing notification. Authorized methods for contacting NMFS and submitting the report include calling IFQ Customer Service at 1-866-425-7627, completing and submitting to NMFS a landing notification provided through the VMS unit, or providing the required information to NMFS through the web-based form available on the IFQ Web site at ifq.sero.fisheries.noaa.gov.

(C) Landing prior to the notification time. The owner or operator of a vessel that has completed a landing notification and submitted it to NMFS may land prior to the notification time, only if an authorized officer is present at the landing site, is available to meet the vessel, and has authorized the owner or operator of the vessel to land early.

(D) Changes to a landing notification. The owner or operator of a vessel who has submitted a landing notification to NMFS may make changes to the notification by submitting a superseding notification. If the initial superseding notification makes changes to one or more of the following: the time of landing (if landing more than 1 hour after the time on the notification), the dealer(s), or the estimated weights of fish to be landed, the vessel does not need to wait an additional 3 hours to land. If the initial superseding notification makes changes to the landing location, the time of landing is earlier than previously specified, or more than one superseding notification is submitted on a trip, the vessel must wait an additional 3 hours to land, except as provided in paragraph (b)(5)(i)(C) of this section.

(ii) Time restriction on offloading. For the purpose of this paragraph, offloading means to remove IFQ groupers and tilefishes from a vessel. IFQ groupers or tilefishes may be offloaded only between 6 a.m. and 6 p.m., local time, unless an authorized officer is present at the offloading at 6 p.m., is available to remain at the site while offloading continues, and authorizes the owner or operator of the vessel to continue offloading after 6 p.m.

* * * * *

(iv) Requirement for transaction approval code. If IFQ groupers or tilefishes are offloaded to a vehicle for transport or are on a vessel that is trailered for transport, on-site capability to accurately weigh the fish and to connect electronically to the online IFQ system to complete the transaction and obtain the transaction approval code is required. After a landing transaction has been completed, a transaction approval code verifying a legal transaction of the amount of IFQ groupers and tilefishes in possession and a copy of the dealer endorsement must accompany any IFQ groupers or tilefishes from the landing location through possession by a dealer. This requirement also applies to IFQ groupers and tilefishes possessed on a vessel that is trailered for transport. A dealer may only receive IFQ groupers and tilefishes transported by a vehicle or a trailered vessel that has a corresponding transaction approval code.

(v) Approved landing locations. IFQ groupers and tilefishes must be landed at an approved landing location. Landing locations must be approved by NMFS Office for Law Enforcement prior to a vessel landing IFQ groupers or tilefishes at these sites. * * *

* * * * *

PART 622—[AMENDED]

4. In part 622, revise “IFQ online account” to read “IFQ account” wherever it occurs.

5. In part 622, revise “IFQ Online Account” to read “IFQ account” wherever it occurs.

6. In part 622, revise “ifq.sero.nmfs.noaa.gov” to read “ifq.sero.fisheries.noaa.gov” wherever it occurs.

[FR Doc. 2014-22998 Filed 9-25-14; 8:45 am]

BILLING CODE 3510-22-P